FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than September 14, 2007.

A. Federal Reserve Bank of Atlanta (David Tatum, Vice President) 1000 Peachtree Street, N.E., Atlanta, Georgia 30309:

1. Leandre Joseph Folse; Bonnie Jane Folse; Mark Phillip Folse; Carrie Jane Folse; Todd John Folse; and the L.J. Folse Family Voting Trust, Leandre Joseph Folse, Bonnie Jane Folse, and Mark Phillip Folse, trustees, all of Houma, Louisiana; to collectively acquire voting shares of Coastal Commerce Bancshares, and thereby indirectly acquire voting shares of Coastal Commerce Bank, both of Houma, Louisiana.

B. Federal Reserve Bank of Dallas (W. Arthur Tribble, Vice President) 2200 North Pearl Street, Dallas, Texas 75201-2272:

1. Asbury Trust No. 1-S; Asbury Trust No. 2-B; Asbury Trust No. 3-A; Asbury Trust No. 4-T; W. Andrew Sandford, as trustee; and Blake and Carole Sandford, together, acting in concert; to acquire additional voting shares of Chisholm Bancshares, Inc., and thereby indirectly acquire additional voting shares of North Texas Bank, N.A., all of Decatur, Texas.

Board of Governors of the Federal Reserve System, August 27, 2007.
Robert deV. Frierson,
Deputy Secretary of the Board.

[FR Doc. E7-17190 Filed 8-29-07; 8:45 am]

BILLING CODE 6210-01-S